DEPARTMENT OF ENERGY

Federal Energy Regulatory Commission

[Docket No. RP98-18-008]

Iroquois Gas Transmission System, L.P.; Notice of Negotiated Rates

October 7, 2003.

Take notice that on October 1, 2003, Iroquois Gas Transmission System, L.P. (Iroquois) tendered for filing as part of its FERC Gas Tariff, First Revised Volume No. 1, First Revised Sheet No. 8, to become effective November 1, 2003.

Iroquois states that the purpose of this filing is to submit gas transportation contract No. R-1365-03 with Amerada Hess Corporation (Amerada) dated June 17, 2003 because this agreement does not conform to the form of service agreement for firm reserved service contained in Iroquois' tariff. Iroquois states that it is adding this Amerada agreement to a new list of non-conforming service agreements as identified on Sheet No. 1 and Sheet No. 8 in its tariff.

Iroquois states that copies of its filing were served on all jurisdictional customers and interested state regulatory agencies and all parties to the proceeding.

Any person desiring to be heard or to protest said filing should file a motion to intervene or a protest with the Federal Energy Regulatory Commission, 888 First Street, NE., Washington, DC 20426, in accordance with Sections 385.214 or 385.211 of the Commission's Rules and Regulations. All such motions or protests must be filed in accordance with ¶ 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: October 14, 2003.

Linda Mitry,
Acting Secretary.

[FR Doc. 03-26070 Filed 10-14-03; 8:45 am]

BILLING CODE 6717-01-P